DEPARTMENT OF JUSTICE

[OMB Number 1105-NEW]

Agency Information Collection Activities; Proposed eCollection eComments Requested; Submission for Review: Electronic Submission Form for Requests for Corrective Action, Whistleblower Protection for Federal Bureau of Investigation Employees

AGENCY: Office of Attorney Recruitment and Management, Department of Justice.

ACTION: 60-day notice.

SUMMARY: The Department of Justice (DOJ), Justice Management Division, Office of Attorney Recruitment and Management (OARM), will be submitting this information collection request to the Office of Management and Budget (OMB) for review and approval in accordance with the Paperwork Reduction Act of 1995. The information collection is a Request for Corrective Action Form, available on OARM's public Web site, for current and former employees of, or applicants for employment with, the Federal Bureau of Investigation (FBI) who wish to file a claim of whistleblower reprisal.

DATES: Comments are encouraged and will be accepted for 60 days until August 7, 2017.

SUPPLEMENTARY INFORMATION: Written comments and/or suggestions regarding the item(s) contained in this notice, especially regarding the estimated public burden and associated response time, should be directed to the U.S. Department of Justice, Office of Attorney Recruitment and Management, 450 5th Street NW., Suite 10200, Attn: Hilary S. Delaney, Washington, DC 20530. Your comments should address one or more of the following four points:

(1) Evaluate whether the proposed collection of information is necessary for the proper performance of the functions of the agency, including whether the information will have practical utility;

(2) Evaluate the accuracy of the agency's estimate of the burden of the proposed collection of information;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of information collection: Existing.

(2) Title of Form/Collection: Request for Corrective Action Form.

(3) The agency form number, if any/the applicable component of the department sponsoring the collection: No form number/Office of Attorney Recruitment and Management, Justice Management Division, U.S. Department of Justice.

(4) Affected Public who will be asked or required to respond, as well as a brief abstract: Individuals. The application form is submitted voluntarily by individuals who are current or former employees of, or applicants for employment with, the FBI who allege reprisal for their whistleblowing activities.

(5) An estimate of the total number of respondents and the amount of time estimated to respond/reply: An average of 10 respondents per year, and an average of three hours to complete the form.

(6) An estimate of the total public burden (in hours) associated with the collection: About 30 hours.

If additional information is required contact: Melody Braswell, Department Clearance Officer, United States Department of Justice, Justice Management Division, Policy and Planning Staff, Two Constitution Square, 145 N Street NE., 3E.405A, Washington, DC 20530.

Dated: June 1, 2017.
Melody Braswell,
Department Clearance Officer for PRA, U.S. Department of Justice.

[FR Doc. 2017-11654 Filed 6-5-17; 8:45 am]

BILLING CODE 4410-PB-P